NUCLEAR REGULATORY COMMISSION

[Docket Nos. 52-012 and 52-013]

South Texas Project Nuclear Operating Company South Texas Project Site, Units 3 & 4; Notice of Intent To Prepare an Environmental Impact Statement and Conduct Scoping Process

South Texas Project Nuclear Operating Company (STPNOC) has submitted an application for combined licenses (COLs) for its South Texas Project (STP) site to build Units 3 & 4, located on approximately 12,200 acres in a rural area of Matagorda County, Texas, approximately 12 miles south-southwest of the city limits of Bay City, Texas, and 10 miles north of Matagorda Bay, along the west bank of the Colorado River. The application for the COLs was submitted by STPNOC by letter dated October 1, 2007, pursuant to 10 CFR Part 52. A notice of receipt of application, including the environmental report (ER), was published in the Federal Register on October 24, 2007 (72 FR 60394). A notice of acceptance for docketing of the application for COLs for STP was published in the Federal Register on December 5, 2007, (72 FR 68597). The purpose of this notice is to inform the public that the U.S. Nuclear Regulatory Commission (NRC) will be preparing an environmental impact statement (EIS) in support of the review of the application for COLs and to provide the public with an opportunity to participate in the environmental scoping process as defined in 10 CFR 51.29. In addition, as outlined in 36 CFR 800.8, “Coordination with the National Environmental Policy Act,” the NRC plans to coordinate compliance with Section 106 of the National Historic Preservation Act in meeting the requirements of the National Environmental Policy Act of 1969 (NEPA).

In accordance with 10 CFR 51.45 and 51.50, STPNOC submitted the ER as part of the application. The ER was prepared pursuant to 10 CFR Parts 51 and 52 and is available for public inspection at the NRC Public Document Room (PDR) located at One White Flint North, 11555 Rockville Pike (first floor), Rockville, Maryland 20852, or from the Publicly Available Records component of NRC's Agency-wide Documents Access and Management System (ADAMS). ADAMS is accessible at http://www.nrc.gov/reading-rm/adams.html, which provides access through the NRC's Electronic Reading Room (ERR) link. Persons who do not have access to ADAMS, or who encounter problems in accessing the documents located in ADAMS, should contact the NRC's PDR Reference staff at 1-800-397-4209 or 301-415-4737, or by e-mail to pdr@nrc.gov. The application may also be viewed on the Internet at http://www.nrc.gov/reactors/new-licensing/col/south-texas-project.html. In addition, the Bay City Public Library, 1100 7th Street, Bay City, Texas 77414 has agreed to make the ER available for public inspection.

The following key reference documents related to the application and the NRC staff's review process are available through the NRC's Web site at http://www.nrc.gov:

a. 10 CFR part 51, Environmental Protection Regulations for Domestic Licensing and Related Regulatory Functions;

b. 10 CFR part 52, Early Site Permits (ESP); standard design certifications; and combined licenses for nuclear power plants;

c. 10 CFR part 100, Reactor Site Criteria;

d. NUREG-1555, Standard Review Plans for Environmental Reviews for Nuclear Power Plants;

e. NUREG/BR-0298, Brochure on Nuclear Power Plant Licensing Process;

f. Regulatory Guide 4.2, Preparation of Environmental Reports for Nuclear Power Stations;

g. Regulatory Guide 4.7, General Site Suitability Criteria for Nuclear Power Stations; and

h. Fact Sheet on Nuclear Power Plant Licensing Process.

The regulations, NUREG-series documents, regulatory guide(s), and fact sheet can be found under Document Collections in the ERR on the NRC webpage.

This notice advises the public that the NRC intends to gather the information necessary to prepare an EIS in support of the review of the application for COLs at the STP site. Possible alternatives to the proposed action (issuance of the COLs at the STP site) include no action and alternate sites. The NRC is required by 10 CFR 52.18 to prepare an EIS in connection with the issuance of COLs. This notice is being published in accordance with NEPA and the NRC's regulations found in 10 CFR part 51.

The NRC will first conduct a scoping process for the COLs and, as soon as practicable thereafter, will prepare a draft EIS for public comment. Participation in this scoping process by members of the public, local, State, Tribal, and Federal government agencies is encouraged. The scoping process for the draft EIS will be used to accomplish the following:

a. Define the proposed action which is to be the subject of the EIS;

b. Determine the scope of the EIS and identify the significant issues to be analyzed In-depth;

c. Identify and eliminate from detailed study those issues that are peripheral or that are not significant;

d. Identify any environmental assessments and other EISs that are being or will be prepared that are related to but are not part of the scope of the EIS being considered;

e. Identify other environmental review and consultation requirements related to the proposed action;

f. Indicate the relationship between the timing of the preparation of the environmental analyses and the Commission's tentative planning and decision-making schedule;

g. Identify any cooperating agencies and, as appropriate, allocate assignments for preparation and schedules for completing the EIS to the NRC and any cooperating agencies; and

h. Describe how the EIS will be prepared, including any contractor assistance to be used.

The NRC invites the following entities to participate in the scoping process:

a. The applicant;

b. Any Federal agency that has jurisdiction by law or special expertise with respect to any environmental impact involved, or that is authorized to develop and enforce relevant environmental standards;

c. Affected State and local government agencies, including those authorized to develop and enforce relevant environmental standards including the State Historic Preservation Officer;

d. Any affected Indian tribe including the Tribal Historic Preservation Officer;

e. The Advisory Council on Historic Preservation;

f. Any person who requests or has requested an opportunity to participate in the scoping process; and

g. Any person who intends to petition for leave to intervene.

In accordance with 10 CFR 51.26, the scoping process for an EIS may include a public scoping meeting to help identify significant issues related to a proposed activity and to determine the scope of issues to be addressed in an EIS. The NRC will hold a public scoping meeting for the EIS regarding STPNOC's COL applications. The scoping meeting will be held at the Bay City Civic Center, 201 7th Street, Bay City, Texas 77414, on Tuesday, February 5, 2008. The meeting will convene at 1:30 p.m., and will continue until 4:30 p.m., and again at 7:00 p.m., and will continue until 10:00 p.m., as necessary. The meeting will be transcribed and will include the following:

(1) An overview by the NRC staff of the NEPA environmental review process, the proposed scope of the EIS, and the proposed review schedule; (2) the opportunity for interested Government agencies, organizations, and individuals to submit comments or suggestions on the environmental issues or the proposed scope of the EIS. Additionally, the NRC staff will host informal discussions for one hour prior to the start of each public meeting at the Bay City Civic Center. No formal comments on the proposed scope of the COLs will be accepted during the informal discussions. To be considered, comments must be provided either at the transcribed public meeting or in writing, as discussed below. Persons may register to attend or present oral comments at the meeting on the NEPA scoping process by contacting Ms. Cristina Guerrero by telephone at 1 (800) 368-5642, extension 2981, or by Internet to the NRC at STP_COL@nrc.gov, no later than January 29, 2008. Members of the public may also register to speak at the meeting within 15 minutes of the start of the session. Individual oral comments may be limited by the time available, depending on the number of persons who register. Members of the public who have not registered may also have an opportunity to speak, if time permits. Public comments will be considered in the scoping process for the EIS. If special equipment or accommodations are needed to attend or present information at the public meeting, the need should be brought to Ms. Guerrero's attention no later than January 29, 2008, so that the NRC staff can determine whether the request can be accommodated.

Members of the public may send written comments on the environmental scoping process for the EIS to the Chief, Rules and Directives Branch, Division of Administrative Services, Office of Administration, Mailstop T-6D59, U.S. Nuclear Regulatory Commission, Washington, DC 20555-0001, and should cite the publication date and page number of this Federal Register notice. Comments may be hand-delivered to the NRC at 11545 Rockville Pike, Rockville, Maryland, between 7:30 a.m. and 4:15 p.m. on Federal workdays. To be considered in the scoping process, written comments must be postmarked or delivered by February 18, 2008. Electronic comments may be sent by the Internet to the NRC at STP_COL@nrc.gov. Electronic submissions must be sent no later than February 18, 2008, to be considered in the scoping process. The staff will not consider comments submitted later than as specified above unless time permits. Comments will be available electronically and accessible through the NRC's ERR link http://www.nrc.gov/reading-rm/adams.html at the NRC Homepage.

Participation in the scoping process for the EIS does not entitle participants to become parties to the proceeding to which the EIS relates. Notice of a hearing regarding the application for COLs will be the subject of a future Federal Register notice.

At the conclusion of the scoping process, the NRC will prepare a concise summary of the determination and conclusions reached, including the significant issues identified, and will send a copy of the summary to each participant in the scoping process. The summary will also be available for inspection through the ERR link. The staff will then prepare and issue for comment the draft EIS, which will be the subject of separate notices and a separate public meeting. Copies will be available for public inspection at the above-mentioned addresses, and one copy per request will be provided free of charge. After receipt and consideration of the comments, the NRC will prepare a final EIS, which will also be available for public inspection.

Information about the proposed action, the EIS, and the scoping process may be obtained from Paul Kallan at (301) 415-2809 or PBK1@nrc.gov.

Dated at Rockville, Maryland, this 17th day of December, 2007.
For the Nuclear Regulatory Commission.
James E. Lyons,
Director, Division of Site and Environmental Reviews, Office of New Reactors.

[FR Doc. E7-24875 Filed 12-20-07; 8:45 am]

BILLING CODE 7590-01-P